DEPARTMENT OF THE INTERIOR

National Park Service

[NPS-WASO-NRNHL-DTS#-34516; PPWOCRADI0, PCU00RP14.R50000]

National Register of Historic Places; Notification of Pending Nominations and Related Actions

AGENCY: National Park Service, Interior.

ACTION: Notice.

SUMMARY: The National Park Service is soliciting electronic comments on the significance of properties nominated before September 3, 2022, for listing or related actions in the National Register of Historic Places.

DATES: Comments should be submitted electronically by September 29, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 3, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

KEY: State, County, Property Name, Multiple Name (if applicable), Address/Boundary, City, Vicinity, Reference Number.

DISTRICT OF COLUMBIA

District of Columbia

National Home for Destitute Colored Women and Children, 733 Euclid St. NW, Washington, SG100008262

FLORIDA

Duval County

St. Matthews Methodist Episcopal Church, (African American Architects in Segregated Jacksonville, 1865-1965 MPS), 825 West Monroe St., Jacksonville, MP100008276

Volusia County

Village Improvement Association Hall, 126 East Halifax Ave., Oak Hill, SG100008277

LOUISIANA

Lafayette Parish

Trappey's Cannery, 501 Guidry St., Lafayette, SG100008269

St. Tammany Parish

Folsom Branch Library, 13260 Broadway St., Folsom, SG100008263

Tangipahoa Parish

Hammond Historic District (Boundary Increase II) (Boundary Decrease), Portions of 19 blks. roughly centered on East Thomas St. and NW Railroad Ave., Hammond, BC100008267

MISSISSIPPI

Leflore County

Gritney Neighborhood Historic District, Roughly bounded by Carrollton Ave., Miller Ave., Bowie Ln., East Martin Luther King Jr. Blvd., 100 East Martin Luther King Jr. Blvd., properties fronting the south side of South and McGehee Sts., Y and MVRR Corridor, Greenwood, SG100008266

TEXAS

El Paso County

Kress Building, 211 North Mesa St., El Paso, SG100008275

UTAH

Salt Lake County

Spencer Homestead Site, (Sandy City MPS), 2591 East Dimple Dell Rd., Sandy, MP100008270

Gerrard, John and Jennette, House, 1488 West 4800 South, Taylorsville, SG100008273

WISCONSIN

Dane County

Gonstead Clinic of Chiropractic, 1505 Springdale St., Mount Horeb, SG100008271

Marathon County

Highland Park Historic District, Generally bounded by Hamilton, Franklin, North 10th, and North 14th Sts., Wausau, SG100008274

Additional documentation has been received for the following resources:

LOUISIANA

Tangipahoa Parish

Hammond Historic District (Additional Documentation), Portions of 19 blks. roughly centered on East Thomas St. and NW Railroad Ave., Hammond, AD80001761

UTAH

Sanpete County

Spring City Historic District (Additional Documentation), UT 17, Spring City, AD80003957

Nomination submitted by Federal Preservation Officer:

The State Historic Preservation Officer reviewed the following nomination and responded to the Federal Preservation Officer within 45 days of receipt of the nomination and supports listing the property in the National Register of Historic Places.

TEXAS

Fannin County

Bonham VA Hospital, (United States Third Generation Veterans Hospitals, 1946-1958 MPS), 1201 East 9th St., Bonham, MP100008265

(Authority: Section 60.13 of 36 CFR part 60)

Dated: September 7, 2022.
Sherry A. Frear,
Chief, National Register of Historic Places/National Historic Landmarks Program.

[FR Doc. 2022-19800 Filed 9-13-22; 8:45 am]

BILLING CODE 4312-52-P